COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee has received proposals to add to the Procurement List commodities and services to be furnished by nonprofit agencies employing persons who are blind or have other severe disabilities.

COMMENTS MUST BE RECEIVED ON OR BEFORE: June 12, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

American Flag

M.R. 1011

NPA: Chester County Branch of the PAB, Coatesville, Pennsylvania

Mailers, Audio Cassette

8105-01-386-2181

8105-01-386-2189

NPA: York County Blind Center, York, Pennsylvania

Marine Security Guard Accessories

8465-00-NIB-0047

8465-00-NIB-0048

8465-00-NIB-0049

8465-00-NIB-0050

8465-00-NIB-0051

8465-00-NIB-0052

8465-00-NIB-0053

8465-00-NIB-0054

NPA: Industries of the Blind, Inc., Greensboro, North Carolina

Skin Protectant Plus, Effective Prevention

9999-00-NSH-0001

9999-00-NSH-0002

9999-00-NSH-0003

NPA: ACT Corp., Daytona Beach, Florida

Services

Grounds Maintenance, Playground Areas, Camp Lejeune, North Carolina

NPA: Coastal Enterprises of Jacksonville, Inc., Jacksonville, North Carolina

Janitorial/Custodial, Sandra Day O'Connor Federal Building, 401 West Washington Street, Phoenix, Arizona

NPA: Goodwill Community Services, Inc., Phoenix, Arizona

Janitorial/Custodial, U.S. Coast Guard, Elizabeth City, North Carolina

NPA: Skills Inc., Hertford, North Carolina

Publication File Maintenance for National Environmental Publications, Internet Site (NEPIS) Website, Environmental Protection Agency, Cincinnati, Ohio

NPA: The Clovernook Center, Opportunities f/t Blind, Cincinnati, Ohio

Leon A. Wilson, Jr.,
Executive Director.

[FR Doc. 00-11993 Filed 5-11-00; 8:45 am]

BILLING CODE 6353-01-P